DEPARTMENT OF THE INTERIOR

Minerals Management Service

Outer Continental Shelf, Headquarters, Cape Wind Offshore Wind Development 2007

AGENCY: Minerals Management Service (MMS), Interior.

ACTION: Notice of extension of public comment period.

SUMMARY: The Minerals Management Service hereby gives notice that it is extending the public comment period for written scoping comments on the Notice of Intent to prepare an EIS for the Proposed Cape Wind Project which was published in the Federal Register on May 30, 2006, (71 FR 30693). In response to requests for additional time, MMS will extend the comment period from July 14, 2006, to July 28, 2006.

Federal, State, tribal, and local governments and other interested parties are requested to send their written comments on the scope of the EIS, significant issues that should be addressed, and potential alternatives and mitigating measures. Written comments will be accepted by mail or through the MMS Web site noted below. Comments are due no later than July 28, 2006.

Mailed comments should be enclosed in an envelope labeled, “Comments on the Notice of Intent to Prepare an EIS on the Cape Wind Project.” Mail written comments to: Minerals Management Service, 381 Elden Street, MS 4042, Herndon, Virginia 20170. The MMS will also accept written comments submitted on our electronic public commenting system. This system can be accessed at http://www.mms.gov/offshore/RenewableEnergy/Projects.htm.

DATES: Comments must be received no later than July 28, 2006, labeled “Comments on the Notice of Intent to Prepare an EIS for Proposed Cape Wind Project.”

FOR FURTHER INFORMATION CONTACT: Dr. Rodney E. Cluck, Project Coordinator at (703) 787-1087 in MMS's Headquarters office regarding questions on the NOI.

Dated: July 7, 2006.
Robert P. LaBelle,
Acting Associate Director for Offshore Minerals Management.

[FR Doc. E6-11259 Filed 7-14-06; 8:45 am]

BILLING CODE 4310-MR-P